DEPARTMENT OF LABOR

Employment and Training Administration

[TA-W-41,004]

Glen Raven, Inc., Burnsville, NC; Notice of Termination of Investigation

Pursuant to Section 221 of the Trade Act of 1974, an investigation was initiated on March 11, 2002, in response to a worker petition which was filed on behalf of workers at Glen Raven, Inc., Burnsville, North Carolina.

The petitioner has requested that the petition be withdrawn. Consequently, further investigation in this case would serve no purpose, and the investigation has been terminated.

Signed at Washington, DC this 2nd day of August 2002.
Linda G. Poole,
Certifying Officer, Division of Trade Adjustment Assistance.

[FR Doc. 02-20196 Filed 8-8-02; 8:45 am]

BILLING CODE 4510-30-P